DEPARTMENT OF TRANSPORTATION

Pipeline and Hazardous Materials Safety Administration

Office of Hazardous Materials Safety, Notice of Delays in Processing of Special Permits Applications

AGENCY: Pipeline and Hazardous Materials Safety Administration, DOT.

ACTION: List of Application Delayed more than 180 days.

SUMMARY: In accordance with the requirements of 49 U.S.C. 5117(c), PHMSA is publishing the following list of special permit applications that have been in process for 180 days or more. The reason(s) for delay and the expected completion date for action on each application is provided in association with each identified application.

FOR FURTHER INFORMATION CONTACT: Delmer Billings, Office of Hazardous Materials Special Permits and Approvals, Pipeline and Hazardous Materials Safety Administration, U.S. Department of Transportation, 400 Seventh Street, SW., Washington DC 20590-0001, (202) 366-4535.

Key to “Reason for Delay”

1. Awaiting additional information from applicant.

2. Extensive public comment under review.

3. Application is technically complex and is of significant impact or precedent-setting and requires extensive analysis.

4. Staff review delayed by other priority issues or volume of special permit applications.

Meaning of application Number Suffixes

N—New application.

M—Modification request.

PM—Party to application with modification request.

Issued in Washington, DC, on May 2, 2006.
R. Ryan Posten,
Chief, Special Permits Program, Office of Hazardous Materials, Special Permits & Approvals.

Application number | Applicant | Reason for delay | Estimated date of completion
Modification to Exemptions
7280-M | Department of Defense, Ft. Eustis, VA | 4 | 05-31-2006
11241-M | Rohm and Haas Co., Philadelphia, PA | 1 | 05-31-2006
11924-M | Wrangler Corporation, Auburn, ME | 4 | 05-31-2006
13583-M | Structural Composites Industries, Pomona, CA | 3, 4 | 06-30-2006
11903-M | Comptank Corporation, Bothwell, ON | 4 | 06-30-2006
13182-M | Cytec Industries Inc., West Paterson, NJ | 3, 4 | 06-30-2006
New Exemption Applications
13341-N | National Propane Gas Association, Washington, DC | 3 | 05-31-2006
13582-N | Linde Gas LLC (Linde), Independence, OH | 4 | 05-31-2006
14038-N | Dow Chemical Company, Midland, MI | 1 | 05-31-2006
14184-N | Global Refrigerants, Inc., Denver, CO | 4 | 06-30-2006
14221-N | U.S. Department of Energy, Washington, DC | 4 | 05-31-2006
14266-N | NCF Industries, Inc., Santa Maria, CA | 3 | 08-31-2006
14270-N | Piper Metal Forming Corporation, New Albany, MS | 3, 4 | 08-31-2006
14257-N | Origin Energy American Samoa, Inc., Pago Pago, AS | 4 | 06-30-2006
14237-N | Advanced Technology Materials, Inc. (ATMI), Danbury, CT | 1 | 05-31-2006
14239-N | Marlin Gas Transport, Inc., Odessa, FL | 1 | 05-31-2006
14233-N | U.S. Department of Energy (DOE), Richland, WA | 4 | 05-31-2006
14232-N | Luxfer Gas Cylinders—Composite Cylinder Division, Riverside, CA | 4 | 06-30-2006
14229-N | Senex Explosives, Inc., Cuddy, PA | 4 | 06-30-2006
14228-N | Goodrich Corporation, Colorado Springs, CO | 1 | 05-31-2006
14278-N | Air Transport International, L.L.C., Little Rock, AR | 3 | 06-30-2006
14277-N | Ascus Technologies, Ltd., Cleveland, OH | 3, 4 | 08-31-2006
14267-N | Department of Energy, Washington, DC | 1 | 06-30-2006
14209-N | ABB Power Technologies AB, Alamo, TN | 4 | 05-31-2006
14197-N | GATX Rail Corporation, Chicago, IL | 4 | 05-31-2006
14163-N | Air Liquide America L.P., Houston, TX | 4 | 06-30-2006
14138-N | INO Therapeutics, Inc., Port Allen, LA | 4 | 06-30-2006
13999-N | Kompozit-Praha s.r.o., Dysina u Plzne, Czech Republic, CZ | 1 | 05-31-2006
13563-N | Applied Companies, Valencia, CA | 4 | 05-31-2006
13347-N | Amvac Chemical Corporation, Los Angeles, CA | 4 | 06-30-2006

[FR Doc. 06-4267 Filed 5-5-06; 8:45am]

BILLING CODE 4910-60-M